DEPARTMENT OF COMMERCE

National Oceanic and Atmospheric Administration

50 CFR Part 622

RIN 0648-AT87

Fisheries of the Caribbean, Gulf of Mexico, and South Atlantic; Shrimp Fishery of the Gulf of Mexico and Reef Fish Fishery of the Gulf of Mexico; Amendment 14/27

AGENCY: National Marine Fisheries Service (NMFS), National Oceanic and Atmospheric Administration (NOAA), Commerce.

ACTION: Announcement of availability of fishery management plan amendment; request for comments.

SUMMARY: NMFS announces the Gulf of Mexico Fishery Management Council (Council) has submitted a joint Amendment 14 to the Fishery Management Plan (FMP) for the Shrimp Fishery of the Gulf of Mexico and Amendment 27 to the FMP for the Reef Fish Resources of the Gulf of Mexico for review, approval, and implementation by NMFS. Amendment 14/27 proposes actions to reduce the red snapper catch, bycatch, and discard mortality in the directed commercial and recreational fisheries and the shrimp fishery. The intended effect of joint Amendment 14/27 is to end overfishing for red snapper between 2009 and 2010 and rebuild the stock by 2032 in compliance with the red snapper rebuilding plan.

DATES: Written comments must be received no later than 5 p.m., eastern time, on September 24, 2007.

ADDRESSES: You may submit comments by any of the following methods:

• E-mail: 0648-AT87.NOA27-14@noaa.gov. Include in the subject line the following document identifier: 0648-AT87-NOA27-14.

• Federal e-Rulemaking Portal: http://www.regulations.gov. Follow the instructions for submitting comments.

• Mail: Peter Hood, Southeast Regional Office, NMFS, 263 13th Avenue South, St. Petersburg, FL 33701.

• Fax: 727-824-5308, Attention: Peter Hood.

Copies of joint Amendment 14/27, which includes an Environmental Impact Statement, a Regulatory Impact Review, and an Initial Regulatory Flexibility Analysis, are available in electronic format from the Council's web site at http://www.gulfcouncil.org, or by contacting the Council at 2203 North Lois Avenue, Suite 1100, Tampa, FL, 33607; phone: 813-348-1630; fax: 813-348-1711; e-mail: gulfcouncil@gulfcouncil.org.

FOR FURTHER INFORMATION CONTACT: Mr. Peter Hood, 727-824-5305; fax 727-824-5308; e-mail: peter.hood@noaa.gov.

SUPPLEMENTARY INFORMATION: The Magnuson-Stevens Fishery Conservation and Management Act (Magnuson-Stevens Act) requires each Regional Fishery Management Council to submit any fishery management plan or amendment to NMFS for review and approval, disapproval, or partial approval. The Magnuson-Stevens Act also requires that NMFS, upon receiving a plan or amendment, publish an announcement in the Federal Register notifying the public that the plan or amendment is available for review and comment.

Elements of Amendment 14/27 constitute a revised rebuilding plan that has at least a 50-percent probability of rebuilding the red snapper stock by 2032. Proposed actions focus around a reduction in red snapper total allowable catch to 5 million lb (2.3 million kg). This would result in a commercial quota of 2.55 million lb (1.16 million kg) and a recreational quota of 2.45 million lb (1.11 million kg). Recreational bag limits would be reduced from four fish to two fish; the bag limit for captain and crew of for-hire vessels would be set at zero. The commercial minimum size limit would be reduced to 13 inches (33 cm) total length with the intent of reducing regulatory discards. To reduce discard mortality in the directed fisheries, Amendment 14/27 proposes an action to require the use of venting tools, dehooking devices, and non-stainless steel circle hooks (when using natural baits) for all reef fish fishery sectors. In addition, the amendment would establish a target reduction goal for shrimp trawl bycatch mortality on red snapper, establish options for time-area closures for the shrimp fishery that would maintain the target reduction goal, and establish a framework whereby NMFS could implement such closures in a timely fashion.

Length of the recreational fishing season will be determined by a number of factors. The proposed two-fish bag limit alone would allow a June 1 through September 15 (107 days) recreational fishing season. In addition to the two-fish bag limit, constraining the captain and crew of for-hire vessels to a zero-fish bag limit would allow the fishing season to be extended through the end of September (122 days). Based on extensive public comment, the Council chose to assume a 10-percent reduction in post-hurricane fishing effort and landings when evaluating recreational management measures. Application of this assumption, along with implementation of the two-fish bag limit and the zero-fish captain and crew limit of for-hire vessels, would allow the recreational fishing season to extend from May 15 through October 15 (154 days). This assumption is controversial because although preliminary data suggest some declines have occurred since the 2005 hurricane season, the magnitude of reductions varies- by fishing sector, is often less than 10 percent, and in some cases effort or landings have increased. Further, it is unknown how long post-hurricane reductions in landings and fishing effort may continue as the fisheries recover. Therefore, NMFS is specifically requesting comments on the assumed 10-percent reduction in effort and landings as proposed in Amendment 27/14, which would affect the designation of the length of the recreational fishing season established by this rule.

A proposed rule that would implement measures outlined in joint Amendment 14/27 has been received from the Council. In accordance with the Magnuson-Stevens Act, NMFS is evaluating the proposed rule to determine whether it is consistent with the FMP, the Magnuson-Stevens Act, and other applicable law. If that determination is affirmative, NMFS will publish the proposed rule in the Federal Register for public review and comment.

Comments received by September 24, 2007, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: July 23, 2007.
James P. Burgess,
Acting Director, Office of Sustainable Fisheries, National Marine Fisheries Service.

[FR Doc. E7-14450 Filed 7-25-07; 8:45 am]

BILLING CODE 3510-22-S